DEPARTMENT OF COMMERCE

National Oceanic and Atmospheric Administration

RIN 0648-XD127

Marine Mammals; File No. 18002

AGENCY: National Marine Fisheries Service (NMFS), National Oceanic and Atmospheric Administration (NOAA), Commerce.

ACTION: Notice; receipt of application.

SUMMARY: Notice is hereby given that Alejandro Acevedo-Gutiérrez, Ph.D. of Western Washington University's Department of Biology, 516 High Street, Bellingham, WA 98225, has applied in due form for a permit to conduct research on harbor seals (Phoca vitulina).

DATES: Written, telefaxed, or email comments must be received on or before March 17, 2014.

ADDRESSES: The application and related documents are available for review by selecting “Records Open for Public Comment” from the Features box on the Applications and Permits for Protected Species (APPS) home page, https://apps.nmfs.noaa.gov, and then selecting File No. 18002 from the list of available applications.

These documents are also available upon written request or by appointment in the following offices:

Permits and Conservation Division, Office of Protected Resources, NMFS, 1315 East-West Highway, Room 13705, Silver Spring, MD 20910; phone (301) 427-8401; fax (301) 713-0376; and

West Coast Region, NMFS, 501 West Ocean Blvd., Suite 4200, Long Beach, CA 90802-4213; phone (562) 980-4005; fax (562) 980-4027.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Courtney Smith or Amy Sloan, (301) 427-8401.

SUPPLEMENTARY INFORMATION: The subject permit is requested under the authority of the Marine Mammal Protection Act of 1972, as amended (MMPA; 16 U.S.C. 1361 et seq.), and the regulations governing the taking and importing of marine mammals (50 CFR part 216).

Dr. Acevedo-Gutiérrez seeks a five-year permit to employ non-invasive research techniques through the use of aerial drones and scat collection to determine the level of individual diet specializations (prey consumption) amongst harbor seals within the Salish Sea area of Washington State. Annually, researchers may take (incidentally harass) 57,600 harbor seals during ground surveys for scat collection and 12,800 harbor seals during aerial (drone) surveys for counts of seals at haul-out sites. Additionally, the researchers may over five years take (unintentional mortality) 10 individuals during ground surveys and 2 individuals during aerial (drone) surveys.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Tammy C. Adams,
Acting Chief, Permits and Conservation Division, Office of Protected Resources, National Marine Fisheries Service.

[FR Doc. 2014-03318 Filed 2-13-14; 8:45 am]

BILLING CODE 3510-22-P